DEPARTMENT OF DEFENSE

Department of the Army

Notice of Availability (NOA) of the Supplemental Draft Environmental Impact Statement (SDEIS) for Military Training Activities at Makua Military Reservation (MMR), Hawaii

AGENCY: Department of the Army, DoD.

ACTION: Notice of availability.

SUMMARY: The Army proposes to conduct live-fire military training exercises at MMR, Oahu, Hawaii, for units assigned to the 25th Infantry Division (25th ID) and for other military components. Other military components that have used MMR in the past include the Marine Corps, Army Reserves, and the Hawaii Army National Guard. The training proposed for MMR includes company-level, combined arms live-fire exercises and convoy live-fire training. The SDEIS addresses, among other things, the potential direct, indirect, and cumulative environmental impacts associated with the proposal to conduct military training activities at MMR. The Army has prepared the SDEIS pursuant to Section 102(2)(c) of the National Environmental Policy Act of 1969 (NEPA), the Council on Environmental Quality regulations (40 CFR Parts 1500-1 508), Environmental Analysis of Army Actions (32 CFR Part 651).

DATES: The public comment period for the SDEIS will end 45 days after publication of the NOA in the Federal Register by the U.S. Environmental Protection Agency.

ADDRESSES: Please send written comments on the SDEIS to: U.S. Army Garrison, Hawaii. ATTN: Public Affairs Office, 742 Santos Dumont, WAAF, Schofield Barracks, HI 96857. E-mail comments should be sent to: usaghipaomakuaEIS@hawaii.army.mil.

FOR FURTHER INFORMATION CONTACT: U.S. Army Garrison, Hawaii, at (808) 656-3152; or by facsimile at (808) 656-3162.

SUPPLEMENTARY INFORMATION: This EIS was originally published as a draft in 2005. The Army made several changes to the EIS in response to public comments including the evaluation of an additional training alternative at the Pohakuloa Training Area (PTA). The Army is republishing the EIS as a supplemental draft to seek public comment.

The SDEIS analyzes four alternatives to accomplish the proposed training in the State of Hawaii: MMR Alternative 1 (Reduced Capacity Use with Some Weapons Restrictions), MMR Alternative 2 (Full Capacity Use with Some Weapons Restrictions), MMR Alternative 3 (Full Capacity Use with Fewer Weapons Restrictions), and PTA Alternative 4 (Full Capacity Use with Fewer Weapons Restrictions). Alternative 3 is the Army's Preferred Alternative. A No Action Alternative, under which no live fire military training would be conducted at MMR, was also evaluated.

For all alternatives (with the exception of No Action), the range would be used for 242 training days per year. MMR Alternative 1 (Reduced Capacity Use) involves conducting up to 28 company-level combined arms live-fire exercises (CALFEXs) per year and 100 convoy live-fire exercises per year. MMR Alternatives 2, 3, and 4 (Full Capacity Use) involve conducting up to 50 company-level CALFEXs per year and 200 convoy live-fire exercises per year. Weapon systems used for all training alternatives would be similar to those used during past training at MMR. MMR Alternative 2 incorporates the use of small arms tracer ammunition. MMR Alternative 3 (Preferred Alternative) adds tracer ammunition; inert, tube-launched, optically tracked, wire-guided (TOW) missiles; 2.75-inch rockets; and illumination munitions. PTA Alternative 4 would encompass training similar to that in Alternative 3.

Some of the major potential impacts discussed in the SDEIS are associated with contamination of soil; surface water and groundwater quality; air quality; cultural sites; natural resources; endangered and threatened species; noise; recreational resources; wildfires; and the safety and transport of munitions through the Waianae community. The Army would phase in certain training activities and ammunition types as steps are taken to conserve endangered species.

Copies of the SDEIS are available at the following libraries on the islands of Oahu and Hawaii: Hawaii State Library, 478 South King Street, Honolulu; Wahiawa Public Library, 820 California Avenue, Wahiawa; Waianae Public Library, 85-625 Farrington Highway, Waianae; and the Pearl City Public Library, 1138 Waimano Home Road, Pearl City; Hilo Public Library, 300 Waianuenue Avenue, Hilo; Kailua-Kona Public Library, 75-138 Hualalai Road, Kailua-Kona; Thelma Parker Memorial Public and School Library, 67-1209 Mamalahoa Hwy. Kamuela.

The Army invites the general public, local governments, other federal agencies, and state agencies to submit wriften comments or suggestions concerning the alternatives and analysis addressed in the SDEIS. An electronic version of the SDEIS is available for download at the following Web site: http://www.qarrison.hawaii.army.mil/makuaeis.

Public meetings will be held during the 45-day comment period. The exact locations, times and dates of the public meetings will be announced in advance through notices and media news releases. A Final EIS will be published following the close of the comment period on the SDEIS and incorporation of public comments.

Dated: Septmeber 12, 2008.
Addison D. Davis, IV,
Deputy Assistant Secretary of the Army (Environment, Safety and Occupational Health).

[FR Doc. E8-21942 Filed 9-19-08; 8:45 am]

BILLING CODE 3710-08-M